DEPARTMENT OF DEFENSE

Department of the Navy

Meeting of the Board of Visitors of Marine Corps University

AGENCY: Department of the Navy, DoD.

ACTION: Notice of open meeting.

SUMMARY: The Board of Visitors of the Marine Corps University (BOV MCU) will meet to review, develop, and provide recommendations on all aspects of the academic and administrative policies of the University; examine all aspects of professional military education operations; and provide such oversight and advice, as is necessary, to facilitate high educational standards and cost effective operations. The BOV MCU will be focusing primarily on Professional Military Education in the Marine Corps. All sessions of the meeting will be open to the public.

DATES: The meeting will be held on Monday, April 16, 2007, from 8 a.m. to 4 p.m. and on Tuesday, April 17, 2007, from 8 a.m. to 12 p.m.

ADDRESSES: The meeting will be held in the Hooper Room at Marine Corps University, 2076 South Street, Quantico, VA 22134.

FOR FURTHER INFORMATION CONTACT: Mary Lanzillotta, Executive Secretary, Marine Corps University Board of Visitors, 2076 South Street, Quantico, VA 22134, telephone number 703-784-4037.

M. A. Harvison,
Lieutenant Commander, Judge Advocate General's Corps, U.S. Navy, Federal Register Liaison Officer.

[FR Doc. E7-5584 Filed 3-26-07; 8:45 am]

BILLING CODE 3810-FF-P